SURFACE TRANSPORTATION BOARD

[Docket No. AB 1182X]

Brandon Railroad, L.L.C.—Abandonment Exemption—in Douglas County, NE

On February 16, 2016, Brandon Railroad, L.L.C. (BRR), filed with the Surface Transportation Board (Board) a petition under 49 U.S.C. 10502 for exemption from the prior approval requirements of 49 U.S.C. 10903 to abandon 17.3 miles of rail lines (the Lines) located in Douglas County, Neb. The Lines traverse United States Postal Service Zip Code 68107.

According to BRR, there is currently one company, United States Cold Storage, Inc. (Cold Storage), that could potentially use common carrier rail service. In August 2015, BRR entered into a long-term Confidential Private Transportation Services Agreement with Cold Storage in the event Cold Storage decides to once again utilize rail service. Additionally, GBW Railcar Services, LLC (GBW), utilizes the Lines to provide private carriage for the rail cars moving to and from its repair facilities on the Lines. Once the proposed abandonment is authorized by the Board and consummated, the Lines will continue to be used by GBW to provide private carriage and by BRR to provide contract (not common carrier) service for Cold Storage.

BRR states that the Lines do not contain federally granted rights-of-way. Any documentation in BRR's possession will be made available to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by June 3, 2016.

Any offer of financial assistance (OFA) under 49 CFR 1152.27(b)(2) will be due no later than June 13, 2016, or 10 days after service of a decision granting the petition for exemption, whichever occurs first. Each OFA must be accompanied by a $1,600 filing fee.¹

¹ See 49 CFR 1002.2(f)(25).

All interested persons should be aware that, following abandonment, the Lines may be suitable for other public use, including interim trail use. Any request for a public use condition under 49 CFR 1152.28 or for interim trail use/rail banking under 49 CFR 1152.29 will be due no later March 24, 2016. Each interim trail use request must be accompanied by a $300 filing fee.²

² See Regulations Governing Fees for Servs. Performed in Connection with Licensing & Related Servs.—2015 Update, EP 542 (Sub-No. 23), slip op. at 17, item 27(i) (STB served July 15, 2015).

All filings in response to this notice must refer to Docket No. AB 1182X and must be sent to: (1) Surface Transportation Board, 395 E Street SW., Washington, DC 20423-0001; and (2) Karl Morell, Karl Morell & Associates, 655 Fifteenth Street NW., Suite 225, Washington, DC 20005. Replies to the petition are due on or before March 24, 2016.

Persons seeking further information concerning abandonment procedures may contact the Board's Office of Public Assistance, Governmental Affairs, and Compliance at (202) 245-0238 or refer to the full abandonment or discontinuance regulations at 49 CFR pt. 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA typically will be within 30 days of its service.

Board decisions and notices are available on our Web site at WWW.STB.DOT.GOV.

Decided: March 1, 2016.
By the Board, Rachel D. Campbell, Director, Office of Proceedings.
Brendetta S. Jones,
Clearance Clerk.

[FR Doc. 2016-04835 Filed 3-3-16; 8:45 am]

BILLING CODE 4915-01-P